DEPARTMENT OF THE INTERIOR

National Park Service

Manzanar National Historic Site Advisory Commission; Notice of Meeting

Notice is hereby given in accordance with the Federal Advisory Commission Act that a meeting of the Manzanar National Historic Site Advisory Commission will be held at 9 a.m. on Monday October 2, 2000 at the Sierra Baptist Church Social Hall, 346 North Edwards Street (U.S. Highway 395), Independence, California, to hear presentations on issues related to the planning, development, and management of Manzanar National Historic Site.

The Advisory Commission was established by Public Law 102-248, to meet and consult with the Secretary of the Interior or his designee, with respect to the development, management, and interpretation of the site, including preparation of a general management plan for the Manzanar National Historic Site.

Members of the Commission are as follows:

Rose Ochi, Chairperson

William Michael, Vice Chairperson

Keith Bright

Martha Davis

Sue Kunitomi Embrey

Gann Matsuda

Vernon Miller

Mas Okui

Dennis Otsuji

Glenn Singley

Richard Stewart

The main agenda will include:

• Status reports on the development of Manzanar National Historic Site by Superintendent Debbie Bird;

• General discussion of miscellaneous matters pertaining to future Commission activities and Manzanar National Historic Site development issues;

• Public comment period.

This meeting is open to the public. It will be recorded for documentation and transcribed for dissemination. Minutes of the meeting will be available to the public after approval of the full Commission. For a copy of the minutes, contact the Superintendent, Manzanar National Historic Site, PO Box 426, Independence, CA 93526.

Dated: September 8, 2000.
Misty Knight,
Acting Superintendent, Manzanar National Historic Site.

[FR Doc. 00-24652 Filed 9-25-00; 8:45 am]

BILLING CODE 4310-70-P